COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) and service(s) previously furnished by such agencies.

DATES: Comments must be received on or before: March 14, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

MR 13087—Set, Cookie Sheet, 3 Piece

Designated Source of Supply: Winston-Salem Industries for the Blind, Inc., Winston-Salem, NC

Contracting Activity: Military Resale-Defense Commissary Agency

List Designation: C-List

Mandatory For: The requirements of military commissaries and exchanges in accordance with the 41 CFR 51-6.4

Deletions

The following product(s) and service(s) are proposed for deletion from the Procurement List:

Product(s)

NSN(s)—Product Name(s):

5340-00-286-6895—Strap, Webbing, 48″ x ¾″

Designated Source of Supply: Development Workshop, Inc., Idaho Falls, ID

Contracting Activity: SOCIAL SECURITY ADMINISTRATION, BALTIMORE, MD

NSN(s)—Product Name(s):

MR 1118—Holder, Sponge

MR 13034—Dispenser, Creamer, Plastic

MR 13039—Microwave Popcorn Popper

MR 13065—Microwave Steamer

Designated Source of Supply: Cincinnati Association for the Blind, Cincinnati, OH

Contracting Activity: Military Resale-Defense Commissary Agency

NSN(s)—Product Name(s):

MR 11312—Mug, Travel, Stainless Steel, West Loop 2.0, 20 oz.

MR 11314—Mug, Travel, Stainless Steel, West Loop 2.0, 16 oz.

Designated Source of Supply: Association for Vision Rehabilitation and Employment, Inc., Binghamton, NY

Contracting Activity: Military Resale-Defense Commissary Agency

NSN(s)—Product Name(s):

MR 10777—Platters, Christmas, Red, Includes Shipper 20777

MR 10778—Platters, Christmas, Blue, Includes Shipper 20777

Designated Source of Supply: Winston-Salem Industries for the Blind, Inc., Winston-Salem, NC

Contracting Activity: Military Resale-Defense Commissary Agency

Service(s)

Service Type: Janitorial/Custodial

Mandatory for: GSA Depot—Warehouse 6: 2695 N Sherwood Forest Drive, Baton Rouge, LA

Designated Source of Supply: Louisiana Industries for the Disabled, Inc., Baton Rouge, LA

Contracting Activity: PUBLIC BUILDINGS SERVICE, PBS R7

Service Type: Shredding & Destruction of Document & Recycling

Mandatory for: US Army Corps of Engineers Middle East District, Winchester VA

Mandatory for: US Army Corps of Engineers Records Holding Area (RHA), Winchester VA

Mandatory for: US Army Corps of Engineers Transatlantic Division, Winchester VA

Contracting Activity: DEPT OF THE ARMY, W31R ENDIS MIDDLE EAST

Service Type: Coating of Polypropylene Plastic Bleeding Tubes

Mandatory for: USDA, APHIS-National Veterinary Stockpile, Kansas City, MO

Designated Source of Supply: JobOne, Independence, MO

Contracting Activity: ANIMAL AND PLANT HEALTH INSPECTION SERVICE, USDA APHIS MRPBS

Michael R. Jurkowski,
Deputy Director, Business & PL Operations.

[FR Doc. 2021-02937 Filed 2-11-21; 8:45 am]

BILLING CODE 6353-01-P